DEPARTMENT OF TRANSPORTATION

National Highway Traffic Safety Administration

[Docket No. NHTSA-02-13546; Notice 2]

RIN 2127-AI72

Event Data Recorders

AGENCY: National Highway Traffic Safety Administration (NHTSA), Department of Transportation.

ACTION: Extension of comment period.

SUMMARY: NHTSA received a petition asking us to extend the comment period for our request for comments concerning what future role the agency should take related to the continued development and installation of Event Data Recorders (EDRs) in motor vehicles. To provide interested persons additional time to prepare comments, we are extending the comment period from January 9, 2003, to February 28, 2003.

DATES: Written comments must be received by February 28, 2003.

ADDRESSES: You may submit your comments in writing to: Docket Management, Room PL-401, 400 Seventh Street, SW., Washington, DC 20590. Alternatively, you may submit your comments electronically by logging onto the Docket Management System (DMS) website at http://dms.dot.gov. Click on “Help & Information” or “Help/Info” to view instructions for filing your comments electronically. Regardless of how you submit your comments, you should mention the docket number of this document.

FOR FURTHER INFORMATION CONTACT: The following persons at the National Highway Traffic Safety Administration, 400 Seventh Street, SW., Washington, DC 20590:

For technical and policy issues: Dr. William Fan, Office of Crashworthiness Standards, NVS-112, telephone (202) 366-4922, facsimile (202) 366-4329.

For legal issues: J. Edward Glancy, Office of the Chief Counsel, NCC-20, telephone (202) 366-2992, facsimile (202) 366-3820.

SUPPLEMENTARY INFORMATION: On October 11, 2002, NHTSA published in the Federal Register (67 FR 63493) a request for comments concerning Event Data Recorders (EDRs) in motor vehicles. EDRs collect vehicle and occupant-based crash information.¹

¹ Since the term “EDR” can be used to cover many different types of devices, we included a definition of the term for purposes of our request for comments. We explained that when we used “EDR” in the request for comments, we were referring to a device that is installed in a motor vehicle to record technical vehicle and occupant-based information for a brief period of time (i.e., seconds, not minutes) before, during and after a crash. For instance, EDRs may record (1) pre-crash vehicle dynamics and system status, (2) driver inputs, (3) vehicle crash signature, (4) restraint usage/deployment status, and (5) certain post-crash data such as the activation of an automatic collision notification (ACN) system. We stated we were not using the term to include any type of device that either makes an audio or video record or logs data such as hours of service for truck operators.

Over the past several years, NHTSA has been actively involved with EDRs. The agency's involvement has included sponsoring two working groups, using data from EDRs in crash investigations, and conducting research and development. Particularly since the two working groups have completed their work, we requested comments on what future role the agency should take related to the continued development and installation of EDRs in motor vehicles. We established a comment closing date of January 9, 2003.

The National Association of EMS Physicians (NAEMSP) requested an extension of the comment period, to March 31, 2003. It noted that it will hold its 2003 Annual Meeting on January 16 to 18. NAEMSP stated that if the extension were granted, it would solicit comments from its membership, and collate the comments for submission on March 31. That organization stated that it would like the opportunity to submit comments in order to benefit patient health and outcomes.

After considering NAEMSP's request, we have decided that it would be in the public interest to extend the comment period. However, we believe a somewhat shorter extension is appropriate. We are extending the comment period until February 28, 2003. This date is approximately six weeks after NAEMSP's Annual Meeting. We believe that will provide sufficient time for that organization to solicit comments from its membership and collate the comments for submission to the agency.

Privacy concerns: All comments (other than those containing confidential business information) submitted to any of our dockets are converted into electronic form. Anyone is able to search the electronic form of those comments by the name of the individual submitting the comment (or signing the comment, if submitted on behalf of an association, business, labor union, etc.). You may review DOT's complete Privacy Act Statement in the Federal Register published on April 11, 2000 (65 FR 19477-78), or you may visit http://dms.dot.gov.

Authority: 49 U.S.C. 322, 30111, 30115, 30117, and 30166; delegation of authority at 49 CFR 1.50 and 49 CFR 501.8.

Issued: January 3, 2003.
Noble N. Bowie,
Director, Office of Planning and Consumer Standards.

[FR Doc. 03-501 Filed 1-7-03; 2:47 pm]

BILLING CODE 4910-59-P